DEPARTMENT OF ENERGY

Notice of Intent To Prepare an Environmental Impact Statement for the Grain Belt Express Transmission Line Project, DOE/EIS-0554

AGENCY: Loan Programs Office, Department of Energy.

ACTION: Notice of intent to prepare an environmental impact statement, request for comments, notice of floodplain involvement.

SUMMARY: Consistent with the regulations implementing the National Environmental Policy Act (NEPA), the U.S. Department of Energy (DOE), Loan Programs Office (LPO), announces its intent to prepare an environmental impact statement (EIS) to consider the environmental impacts associated with providing potential financial assistance (a federal loan guarantee) to Grain Belt Express, LLC, for construction and energization of Phase 1 of the Grain Belt Express Transmission Line Project (Grain Belt Express Project). The Grain Belt Express Project consists of an approximately 530-mile-long high-voltage direct-current (HVDC) transmission line, with a terminus in Ford County, Kansas, and a terminus in Monroe County, Missouri; two HVDC converter stations; a 1,000-foot alternating-current (AC) transmission line from the HVDC converter station at the terminus of the Ford County, Kansas HVDC transmission line to an existing substation; and an approximately 40-mile AC transmission line from the HVDC converter station at the terminus of the Monroe County, Missouri HVDC transmission line to an existing substation and a proposed substation, both in Callaway County, Missouri. This notice of intent (NOI) announces the EIS scoping process as well as a notice of proposed floodplain action. Detailed information about the project can be found at www.EIS-GrainBeltExpress.com.

DATES: Written comments and information are requested on or before February 28, 2023.

LPO will hold six public scoping meetings for the project, four in-person and two virtual meetings, at the following dates and times (Central Time). Registration for the virtual public meetings may be completed at the following web links:

• Wednesday, January 25, 2023, 11:30 a.m.-1 p.m., virtual meeting on Zoom (https://us06web.zoom.us/webinar/register/WN_NOQzgumNTpOAIL5UoLVIeA)

• Thursday, January 26, 2023, 5 p.m.- 6:30 p.m., virtual meeting on Zoom (https://us06web.zoom.us/webinar/register/WN_D619NGe1TGqMH0fcHx5SSA)

• Tuesday, January 31, 2023, 11 a.m.-1 p.m. and 4 p.m.-6 p.m., Dodge House Hotel and Convention Center, 2408 W Wyatt Earp Blvd., Dodge City, KS 67801

• Tuesday, January 31, 2023, 11 a.m.-1 p.m. and 4 p.m.-6 p.m., Municipal Auditorium, 201 W Rollins St., Moberly, MO 65270

• Thursday, February 2, 2023, 11 a.m.-1 p.m. and 4 p.m.-6 p.m. Corinthians Hill Event Center, 464 NE 20 Ave., Great Bend, KS 67530

• Thursday, February 2, 2023, 11 a.m.-1 p.m. and 4 p.m.-6 p.m., Fairview Golf Course, 3302 Pacific St., St. Joseph, MO 64507

All meetings are open to the public and free to attend.

ADDRESSES: Written comments can be submitted in any of the following ways:

• Hand Delivery/Courier: Enclosed in an envelope labeled “Grain Belt Express EIS” and addressed to DOE LPO, c/o AECOM, 100 N Broadway, 20th Floor, St. Louis, MO 63102; or

• Email: EIS-GrainBeltExpress@aecom.com or www.EIS-GrainBeltExpress.com.

FOR FURTHER INFORMATION CONTACT: Angela Ryan, U.S. Department of Energy, Loan Programs Office,1000 Independence Avenue SW, Washington DC, 20585. Telephone: 240-220-4586. Email: Angela.Ryan@hq.doe.gov.

SUPPLEMENTARY INFORMATION:

Purpose and Need for the Proposed Action

Title XVII of the Energy Policy Act of 2005 (EPAct) established a federal loan guarantee program for certain projects that employ innovative technologies. EPAct authorizes the Secretary of Energy to make loan guarantees available for those projects. Specifically, Title XVII identifies the projects as those that “avoid, reduce, or sequester air pollutants or anthropogenic emissions of greenhouse gases; and employ new or significantly improved technologies as compared to commercial technologies in service in the United States at the time the guarantee is issued.” Grain Belt Express, LLC (Applicant), has applied for a loan guarantee pursuant to the DOE Renewable Energy Project and Efficient Energy Projects Solicitation (Solicitation Number: DE-SOL-0007154) under Title XVII, Innovative Energy Loan Guarantee Program, authorized by the EPAct. The primary goal of the program is to finance projects and facilities in the United States that employ innovative and renewable or efficient energy technologies that avoid, reduce, or sequester anthropogenic emission of greenhouse gases (GHGs).

The purpose and need for agency action are to comply with DOE's mandate under the EPAct by selecting eligible projects that meet the goals of the act. The DOE LPO has determined that the Grain Belt Express Project, as proposed by the Applicant, is eligible pursuant to section 1703 of the EPAct and that it complies with DOE's mandate, as defined in the act. DOE is using the NEPA process to assist in determining whether to issue a loan guarantee to the Applicant to support the project.

Proposed Action and Alternatives

The DOE, LPO, proposed action is to provide federal financial support (a loan guarantee) to the Applicant for construction and energization of the Grain Belt Express Project, as proposed by the Applicant. The Grain Belt Express Project is a HVDC transmission line that will be designed to operate at 600 kilovolts (kV), extending approximately 530 miles from a HVDC converter station in Ford County, Kansas, to another HVDC converter station in Monroe County, Missouri; certain facilities necessary to allow interconnection into the broader electric grid are also included. The route of the HVDC transmission line was reviewed and approved by the State of Kansas, through the Kansas Corporation Commission (KCC), and the State of Missouri, through the Missouri Public Service Commission (MPSC), which are reflected in the existing KCC Certificate of Public Convenience and Necessity and Siting Permit and the existing MPSC Certificate of Convenience and Necessity for the Grain Belt Express Project.

In Kansas, the Grain Belt Express Project includes construction and energization of approximately 384 miles of HVDC transmission line and Ford County interconnection facilities. The Ford County interconnection facilities will comprise:

• An approximately 2,500-megawatt (MW) HVDC converter station.

• An AC switchyard adjacent to the HVDC converter station.

• An approximately 1,000-foot-long 345 kV AC transmission line from the AC switchyard to the existing Saddle Substation that ITC Great Plains (a subsidiary of ITC Holdings Corporation) owns adjacent to the switchyard.

In Missouri, the Grain Belt Express Project includes construction and energization of approximately 146 miles of HVDC transmission line and Missouri interconnection facilities. The Missouri interconnection facilities will comprise:

• An approximately 2,500 MW HVDC converter station in Monroe County.

• An AC switchyard adjacent to the HVDC converter station.

• An approximately 40-mile-long 345 kV AC transmission line, constructed between the AC switchyard in Monroe County and the non-Applicant-owned existing McCredie Substation and the proposed non-Applicant-constructed and -owned Burns Substation in Callaway County. This AC transmission connection, which is referred to as the “Tiger Connector” and part of the Grain Belt Express Project, would have approximately 2,500 MW of capacity and deliver electricity into the Midcontinent Independent System Operator power market and other customers in the Midwest.

Under the No Action Alternative, LPO would not provide federal financial support (a loan guarantee) to the Applicant for construction and energization of the Grain Belt Express Project, with the assumption that the project would not be constructed.

Summary of Expected Impacts

The draft EIS will identify, describe, and analyze the potential effects of the proposed action (i.e., the Grain Belt Express Project) and the No Action Alternative on the human environment that are reasonably foreseeable and have a reasonably close causal relationship. Potential impacts on resources include, but are not limited to, impacts (whether beneficial or adverse; short term or long term) on air quality and GHG emissions; soils and paleontological resources; water resources, including surface and groundwater and floodplains; vegetation, wildlife, and special-status species; land use and recreation; socioeconomics and environmental justice; public health and safety; cultural resources and Native American traditional values; transportation; visual resources; and noise. Analyses for cumulative impacts will be conducted for those resources directly affected and determined to be reasonably foreseeable through the scoping process.

The EIS will identify, describe, and analyze the potential effects of the proposed action and No Action Alternative. This will include direct, indirect, and cumulative effects resulting from implementation of the proposed action and No Action Alternatives that are determined to be reasonably foreseeable. LPO recognizes that other actions or activities may be induced by or related to the proposed action (e.g., development of new generation assets as developers seek to interconnect with the project as well as system upgrades in Missouri for system reliability that would be performed by other utilities). In addition, construction of the Grain Belt Express Project may result in the Applicant developing a subsequent phase to the transmission project, Grain Belt Express Project Phase 2, which would extend from the HVDC converter station in Monroe County, Missouri, to an HVDC converter station in Illinois before transitioning to a 345 kV AC transmission line that interconnects with an existing substation in Indiana. Additional actions that are induced by or related to the proposed action, and identified as reasonably foreseeable, would also be discussed in the EIS.

Based on a preliminary evaluation and prior projects of a similar nature (i.e., transmission development), the Grain Belt Express Project could affect local air quality, soil stability (e.g., compaction) and quality, and floodplains, riparian habitat, and wetlands due to ground disturbance associated with construction activities. Construction and energization of the Grain Belt Express Project could affect wildlife and plant species, including individuals and the habitat of federally threatened, endangered, and proposed species and state-listed species. Species of specific concern include the whooping crane, lesser and greater prairie-chickens, bald eagle, northern long-eared bat, Indiana bat, monarch butterfly, and Kansas state-designated critical habitat for the eastern spotted skunk. Initial evaluations suggest that the Grain Belt Express Project could also affect known and previously unidentified archaeological and paleontological resources and historic properties as well as resources important to Native American tribes, including both natural and cultural.

Construction and energization of the Grain Belt Express Project could affect local and regional economies in terms of construction-related job creation and changes in property values, tax revenues, and construction and ancillary spending. The project could also create safety concerns for workers during construction and maintenance as well as local safety risks associated with electromagnetic fields, power surges, risk of increased lightning strikes, and line-induced fires.

Finally, introduction of the transmission line and associated construction and energization could affect the viewshed throughout the project corridor by introducing a new element onto landscapes as well as increasing noise above ambient levels typically experienced.

Anticipated Permits and Authorizations

In addition to NEPA, other federal authorizations will be required. These processes, as well as consultation under section 106 of the National Historic Preservation Act and section 7 of the Endangered Species Act, as appropriate, will occur concurrently with the NEPA process. Other authorizations may be required pursuant to the Migratory Bird Treaty Act, the Clean Water Act, the Rivers and Harbors Act, and the Clean Air Act. As appropriate, DOE will also conduct government-to-government tribal consultations.

Notice of Proposed Floodplain Action

Because the Grain Belt Express Project is expected to involve activities within floodplains, this NOI also serves as a notice of proposed floodplain action. The EIS will analyze potential impacts on floodplains and include a floodplain assessment. A floodplain statement of findings will be published following DOE regulations for compliance with floodplain environmental review (10 CFR part 1022).

Schedule for the Decision-Making Process

Subsequent to the draft EIS completion, LPO will publish a notice of availability (NOA) and request public comments on the draft EIS. LPO anticipates issuance of the NOA in September 2023. After the public comment period, LPO will review and respond to comments received and develop a final EIS. LPO anticipates the final EIS will be available to the public in July 2024. A record of decision will be completed no sooner than 30 days after the final EIS is published, in compliance with 40 CFR 1506.11.

Scoping Process and Comments

This NOI commences the public scoping process to identify issues for consideration in the draft EIS. LPO will hold in-person and virtual public scoping meetings at the times and dates described previously under the DATES section. Throughout the scoping process, federal agencies; tribal, state, and local governments; and the general public have the opportunity to help LPO identify significant resources and issues, impact-producing factors, and potential mitigation measures to be analyzed in the EIS as well as an opportunity to provide additional information.

Comments may be broad in nature or focused on specific areas of concern but should be directly relevant to the proposed action, the NEPA process, or expected resource impacts. The scoping process allows the public and interested parties to shape the EIS impact analysis, focusing on the areas of greatest importance and identifying areas requiring less attention. Comments on the proposed action will be accepted and considered at any time during the EIS process and may be directed to LPO as described under the ADDRESSES section. However, commenters should be aware that their comments should be timely for them to be fully considered (e.g., scoping comments received well after the close of the scoping period would be considered but would be received too late to be useful for scoping purposes).

Federal agencies; tribal, state, and local governments; and other interested parties are requested to comment on the scope of this EIS, significant issues that should be addressed, and alternatives that should be considered. For information on how to submit comments, see the ADDRESSES section.

LPO does not consider anonymous scoping comments. Please include your name and address as part of your scoping comment. All scoping comments, including the names, addresses, and other personally identifiable information included in the comment, will be part of the administrative record.

NEPA Cooperating Agencies

Per 40 CFR 1501.8, LPO will invite other federal agencies with jurisdiction by law, or those tribal, state, or local governments with special expertise related to the relevant environmental issues, to collaborate as a cooperating agency, participating agency, or commenting agency. Upon request, LPO will provide interested agencies with a written summary of expectations, including schedules, milestones, responsibilities, scope, and details of agency expected contributions. LPO, as the lead agency, does not provide financial assistance to cooperating agencies. Governmental agencies that are not designated cooperating or participating agencies will have the opportunity to provide information, comments, and consultation to LPO during the public input stages of the NEPA process.

Request for Identification of Potential Alternatives, Information, and Analyses Relevant to the Proposed Action

LPO requests data, comments, information, analysis, or suggestions relevant to the proposed action from the public; affected federal, tribal, state, and local governments, agencies and offices; the scientific community; industry; or any other interested party. Specifically, LPO requests information on the following topics:

1. Potential effects that could occur on biological resources.

2. Potential effects that could occur on physical resources and conditions, including air quality, soils, water quality, floodplains, wetlands, and other waters of the United States.

3. Potential effects that could occur on socioeconomic and cultural resources, including environmental justice and Native American tribal resources.

4. Proposed measures to avoid, minimize, or mitigate any adverse effects.

5. Information on other current or planned activities in, or in the vicinity of, the proposed action and their possible impacts.

6. Other information relevant to the proposed action and its impacts on the human environment.

To promote informed decision-making, comments should be as specific as possible and should provide as much detail as necessary to meaningfully and fully inform LPO of the commenter's position. Comments should explain why the issues raised are important to the consideration of potential environmental impacts affecting the quality of the human environment.

The draft EIS will include a summary of all alternatives, information, and analyses submitted during the scoping process for consideration by LPO and any cooperating agencies.

Authority: 42 United States Code (U.S.C.) 4321 et seq. and 40 CFR 1501.9.

Signing Authority

This document of the Department of Energy was signed on December 8, 2022, by Todd Stribley, NEPA Compliance Officer, Loan Programs Office, pursuant to delegated authority from the Secretary of Energy. That document with the original signature and date is maintained by DOE. For administrative purposes only, and in compliance with requirements of the Office of the Federal Register, the undersigned DOE Federal Register Liaison Officer has been authorized to sign and submit the document in electronic format for publication as an official document of DOE. This administrative process in no way alters the legal effect of this document upon publication in the Federal Register.

Signed in Washington, DC, on December 9, 2022.
Treena V. Garrett,
Federal Register Liaison Officer, U.S. Department of Energy.

[FR Doc. 2022-27099 Filed 12-15-22; 8:45 am]

BILLING CODE 6450-01-P